DEPARTMENT OF COMMERCE

National Oceanic and Atmospheric Administration

RIN: 0648-XQ45

North Pacific Fishery Management Council; Public Meeting

AGENCY: National Marine Fisheries Service (NMFS), National Oceanic and Atmospheric Administration (NOAA), Commerce.

ACTION: Notice of a public meeting.

SUMMARY: The North Pacific Fishery Management Council's Rural Community Outreach Committee will meet in Anchorage.

DATES: The meeting will be held on August 12, 2009, 9 a.m. to 5 p.m.

ADDRESSES: The meeting will be held at the Anchorage Chamber of Commerce Conference Room, Room #304, 1016 West 6th Avenue, Suite 304, Anchorage, AK.

Council address: North Pacific Fishery Management Council, 605 W. 4th Ave., Suite 306, Anchorage, AK 99501-2252.

FOR FURTHER INFORMATION CONTACT: Nicole Kimball, NPFMC, telephone: (907) 271-2809.

SUPPLEMENTARY INFORMATION: Council's Rural Community Outreach Committee will discuss organizational issues; ways to improve general and project-specific outreach with rural and Alaska Native communities; and the committee's role in providing feedback on community impacts sections of analyses.

The Agenda is subject to change, and the latest version will be posted at http://www.noaafisheries.noaa.gov/npfmc/.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Gail Bendixen, (907) 271-2809, at least 5 working days prior to the meeting date.

Dated: July 21, 2009.
Tracey L. Thompson,
Acting Director, Office of Sustainable Fisheries, National Marine Fisheries Service.

[FR Doc. E9-17656 Filed 7-23-09; 8:45 am]

BILLING CODE 3510-22-S